NUCLEAR REGULATORY COMMISSION

[Docket Nos. 50-348 and 50-364]

Southern Nuclear Operating Company, Inc (SNC), Joseph M. Farley Nuclear Power Plant, Units 1 and 2; Notice of Availability of the Final Supplement 18 to the Generic Environmental Impact Statement for the License Renewal of Joseph M. Farley Nuclear Power Plant, Units 1 and 2

Notice is hereby given that the U.S. Nuclear Regulatory Commission (the Commission) has published a final plant-specific supplement to the Generic Environmental Impact Statement (GEIS), NUREG-1437, regarding the renewal of operating licenses NPF-2 and NPF-8 for an additional 20 years of operation at Joseph M. Farley Nuclear Power Plant (FNP). FNP is located in Houston County, Alabama, approximately 16.5 miles east of the City of Dothan, Alabama. Possible alternatives to the proposed action (license renewal) include no action and reasonable alternative energy sources.

Section 9.3 of the final supplement 18 states:

Based on: (1) The analysis and findings in the GEIS (NRC 1996; 1999), (2) the environmental report submitted by SNC (SNC 2003), (3) consultation with Federal, State, Tribal, and local agencies, (4) the staff's own independent review, and (5) the staff's consideration of public comments, the recommendation of the staff is that the Commission determine that the adverse environmental impacts of license renewal for Farley Units 1 and 2, are not so great that preserving the option of license renewal for energy planning decision makers would be unreasonable.

The final Supplement 18 to the GEIS is available for public inspection in the NRC Public Document Room (PDR) located at One White Flint North, 11555 Rockville Pike, Rockville, Maryland, 20852, between 7:30 a.m. and 4:15 p.m. or from the Publicly Available Records (PARS) component of NRC's Agencywide Documents Access and Management System (ADAMS). ADAMS is accessible from the NRC's Web site at http://www.nrc.gov/reading-rm/adams.html (the Public Electronic Reading Room). Persons who do not have access to ADAMS, or who encounter problems in accessing the documents located in ADAMS, should contact the PDR reference staff at 1-800-397-4209, 301-415-4737, or by e-mail to pdr@nrc.gov. In addition, the Houston Love Memorial Library, 212 West Burdeshaw Street, Dothan, Alabama, and the Lucy Maddox Memorial Library, 11880 Columbia Street, Blakely, Georgia, have agreed to make the final plant-specific supplement to the GEIS available for public inspection.

FOR FURTHER INFORMATION CONTACT: Mr. Jack Cushing, License Renewal and Environmental Impacts Program, Division of Regulatory Improvement Programs, U.S. Nuclear Regulatory Commission, Washington, DC 20555. Mr. Cushing may be contacted at 301-415-1424 or via e-mail at JXC9@nrc.gov.

Dated in Rockville, Maryland, this 9th day of March, 2005.
For the Nuclear Regulatory Commission.
Pao-Tsin Kuo,
Program Director, License Renewal and Environmental Impacts Program, Division of Regulatory Improvement Programs, Office of Nuclear Reactor Regulation.

[FR Doc. 05-5365 Filed 3-17-05; 8:45 am]

BILLING CODE 7590-01-P